DEPARTMENT OF HEALTH AND HUMAN SERVICES

Centers for Disease Control and Prevention

Increasing Access to HIV Counseling and Testing (VCT) and Enhancing HIV/AIDS Communications, Prevention, and Care in Botswana, Lesotho, South Africa, Swaziland and Cote d'Ivoire

Announcement Type: New.

Funding Opportunity Number: AA006.

Catalog of Federal Domestic Assistance Number: 93.067.

Key Dates:

Application Deadline: June 2, 2005.

I. Funding Opportunity Description

Authority: This program is authorized under Sections 307 and 317(k)(2) of the Public Health Service Act, [42 U.S.C. Sections 242l and 247b(k)(2)], as amended.

Background

Southern Africa faces the world's most severe HIV/AIDS epidemic. National prevalence rates are estimated at 30 percent in Lesotho, 27.9 percent (GOSA 2003 Antenatal Study) in South Africa, 37 percent in Botswana, and 39 percent in Swaziland. Cote d'Ivoire has the highest HIV prevalence in the West African sub-region. Young adults are among the hardest hit. The availability of HIV counseling and testing (CT), prevention communications and interventions, and care varies in the five countries; and, in all places, Voluntary Counseling and Testing (VCT) needs further promotion and strengthening. In some of the countries, most people who have been tested for HIV have been tested for medical diagnostic purposes or because they are pregnant, while in Botswana, for example, a good VCT service network exists but remains underutilized. In all five countries, stigma surrounding accessing HIV CT services, fears of confidentiality not being maintained, and low belief in the efficacy of Rapid Test Kits remain barriers to people accessing HIV CT. Overall, relatively few asymptomatic people are accessing VCT services that would empower them to change their behavior and direct them to post-test care and support services, including antiretroviral therapy (ART) and Tuberculosis (TB) therapy.

Other aspects of behavior change need strengthening as well. Levels of abstinence, faithfulness, and correct and consistent condom use need to increase in all countries, in order to decrease HIV incidence. Research has shown that key mediating factors to infection, such as alcohol and substance abuse and partner violence, are also prevalent in the populations at high risk for HIV infection in the five countries; thus, these mediating factors also need to be addressed in prevention, care and treatment efforts. Youth are particularly vulnerable to infection, but also particularly open to positive behavior change; thus, the youth of these five countries should be a key target group for some of the activities proposed below.

Purpose: The Centers for Disease Control and Prevention (CDC) announces the availability of fiscal year (FY) 2005 funds up to $5.8 million for a cooperative agreement program to increase United States (U.S.) support for Botswana, South Africa, Lesotho, Swaziland and Cote d'Ivoire to limit the further spread of HIV/AIDS and to care for those affected by this devastating disease. This funding is an action by the U.S. Government recognizing the impact that HIV/AIDS continues to have on individuals, families, communities and nations, and the need to do more. Over the next five years, it is expected that these activities will contribute to achieving the global targets of the United States President's Emergency Plan for AIDS Relief (PEPFAR). The mission of the PEPFAR is to work with leaders throughout the world to combat HIV/AIDS, promoting integrated prevention, treatment, and care interventions, with an urgent focus on countries that are among the most afflicted nations of the world. The goals are as follows:

• To encourage bold leadership at every level to fight HIV/AIDS.

• Apply best practices within our bilateral HIV/AIDS prevention, treatment, and care programs, in concert with the objectives and policies of the host governments' national HIV/AIDS strategies.

• Encourage partners, including multilateral organizations and other host governments, to coordinate at all levels to strengthen response efforts, to embrace best practices, to adhere to principles of sound management, and to harmonize monitoring and evaluation efforts to ensure the most effective and efficient use of resources.

In the PEPFAR funded countries, the targets are to: (1) Provide treatment to two million HIV-infected people; (2) prevent seven million new infections; and (3) provide care to ten million people infected and affected by HIV/AIDS, including orphans and vulnerable children.

The purpose of the program is to increase the use of high quality HIV CT services in Botswana, Lesotho, South Africa, Swaziland and Core d'Ivoire. Use of CT services is intended to lead to safer sexual behaviors, including abstinence, fidelity, and correct and consistent condom use, and increased use of care and support services through a strong referral network to complementary services. A secondary purpose of this program is to enhance HIV/AIDS prevention communications activities.

Measurable outcomes of the program will be in alignment with one or more of the following performance goals for the PEPFAR program:

Palliative Care—Counseling and Testing (CT)

1. Number of CT service outlets/programs, direct and/or indirect.

2. Number of clients receiving both CT, direct.

3. Number of people trained in both CT, direct.

Palliative Care—TB/HIV

• Number of people provided with palliative care for TB/HIV, direct and/or indirect.

Prevention—Abstinence and Be Faithful (A/B)

• Number of community outreach and/or mass media programs that are A/B focused, direct and/or indirect.

• Number of people reached through community outreach and/or mass media programs that are not A/B focused.

Prevention—Other

• Number of community outreach and/or mass media programs that are not focused on A/B, direct and/or indirect.

• Number of people reached through community outreach and/or mass media programs that are not A/B focused

Treatment—Laboratory Infrastructure

• Number of labs, direct.

• Number of people trained in lab related activities, direct.

In addition, funds will support necessary wrap-around activities to complement HIV CT, such as prevention communications, interventions, and referrals and linkages to HIV/AIDS care.

Activities:

The specific activities carried out in each country should meet the needs of that country; thus, the activity plans for each country may differ under this agreement. Awardee activities for this program are as follows:

1. Establishing and running non-medical, stand-alone HIV CT sites linked together within countries as a network sharing: standardized CT protocols and procedures; standardized management systems; standardized monitoring and evaluation procedures and instruments; and standardized marketing and education materials and activities.

2. Operating mobile HIV CT activities to reach rural populations and/or employees at their workplaces.

3. Developing and implementing comprehensive social marketing campaigns to create informed demand for HIV CT services and reduce stigma surrounding accessing CT.

4. Developing and implementing comprehensive social marketing campaigns to promote abstinence, faithfulness, and/or consistent and correct condom use.

5. Developing and implementing programs to promote healthy behavior change among high-risk populations (e.g., youth) and at high-risk sites (e.g., bars, bottle shops).

6. Promoting messages that raise awareness about the harmful ties between alcohol/substance abuse and HIV infection and poor adherence to antiretrovirals (ARVs).

7. Creating referral networks for HIV CT clients to improve access to care and support services.

8. Collecting strategic information to ensure the effectiveness of HIV/AIDS prevention activities.

9. Providing support as appropriate to the national Departments of Health (DOH), Ministries of Health (MOH) and other South African Government agencies, which may include, without limitation: improvement of monitoring and evaluation activities to assure high quality service delivery in all HIV CT sites; development of communications materials; development and/or implementation of training curricula; and improvement of laboratory infrastructure.

10. Training faith-based leaders to encourage testing and partnering with CT providers to enable testing at places of worship.

11. Ensuring that all of the above activities are undertaken in a manner consistent with and in support of U.S. Government HIV/AIDS strategies.

In a cooperative agreement, CDC staff is substantially involved in the program activities, above and beyond routine monitoring.

CDC Activities for this program are as follows:

1. Providing input into overall program strategies.

2. Providing technical assistance, as needed, in the development of HIV CT service provision, training, referral and communications strategies and activities. Technical assistance may be provided directly by CDC staff or through organizations supported by CDC under a separate contract.

3. Collaborating with the awardee in the development and implementation of information gathering systems to enable assessment of program activities.

4. Assisting, as needed, in the monitoring and evaluation of the program and the development of further appropriate initiatives.

5. Fostering collaboration between the awardee and other CDC and U.S. Government-funded programs.

6. Providing oversight for the program, including approval of key personnel and annual operational plans.

II. Award Information

Type of Award: Cooperative Agreement. CDC involvement in this program is listed in the Activities Section above.

Fiscal Year Funds: FY 2005.

Approximate Total Funding: $2-5.8 million per year, over five years; or $30 million. (This amount is an estimate, and is subject to availability of funds.)

Approximate Number of Awards: One.

Approximate Average Award: $1-2 million for South Africa, $1-2 million for Swaziland and Lesotho, $1-2 million for Cote d'Ivoire and $400,000 for Botswana. (This amount is for the first 12-month budget period, and includes both direct and indirect costs.)

Floor of Award Range: $1 million.

Ceiling of Award Range: $6.5 million. (This ceiling is for the first 12-month budget period.)

Anticipated Award Date: July 1, 2005.

Budget Period Length: 12 months.

Project Period Length: Five years.

Throughout the project period, CDC's commitment to continuation of awards will be conditioned on the availability of funds, evidence of satisfactory progress by the recipient (as documented in required reports and input from recipient government agencies), and the determination that continued funding is in the best interest of the Federal Government.

III. Eligibility Information

III.1. Eligible Applicants

Applications may be submitted by:

• Public nonprofit organizations

• Private nonprofit organizations

• Universities

• Colleges

• For profit organizations

• Small, minority, women-owned businesses

• Community-based organizations

• Research institutions

• Hospitals

• Faith-based organizations

Competition for this cooperative agreement is limited to the types of organizations listed above because of the uniqueness the specific activities for this project and the location of where the majority of the work will be performed, in multiple countries throughout Africa. The types of organizations listed above are those that have direct experience with performing this type of activity. CDC and the Global AIDS Program have routinely coordinated with the types of organizations listed above for activities similar to those proposed in this RFA multiple times in the past.

The organizations listed below are those that are excluded from competition:

• Federally recognized Indian tribal governments

• Indian tribes

• Indian tribal organizations

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

• Political subdivisions of States (in consultation with States)

The organizations listed directly above have been excluded from competition because inherently they do not have a mandate to, nor have the resources, skills or experience to provide the types of services that are requested as part of this cooperative agreement.

III.2. Cost Sharing or Matching

Matching funds are not required for this program.

III.3. Other

If you request a funding amount greater than the ceiling of the award range, your application will be considered non-responsive, and will not be entered into the review process. You will be notified that your application did not meet the submission requirements.

Special Requirements

If your application is incomplete or non-responsive to the special requirements listed in this section, it will not be entered into the review process. You will be notified that your application did not meet submission requirements.

Applicant must meet the following criteria:

• Have at least three years of documented HIV/AIDS related program implementation experience in each of the countries: Botswana, Lesotho, South Africa, Swaziland and Cote d'Ivoire.

• Have demonstrated expertise in the areas of direct HIV CT service delivery, AIDS prevention communications, and social marketing in Botswana, Lesotho, South Africa, Swaziland and Cote d'Ivoire.

• Be locally incorporated in Botswana, Lesotho, South Africa, Swaziland and Cote d'Ivoire.

• Have established relationships with the government in all five countries and written letters of support from the National DOH or MOH in each country. U.S. Embassy collaboration in Swaziland and Lesotho will also be necessary.

• Late applications will be considered non-responsive. See section “IV.3. Submission Dates and Times” for more information on deadlines.

• Demonstrate non-profit 501(c)(3) status.

• Provide Articles of Incorporation in each country. Articles of Incorporation are legal documents providing proof that the organization is legally incorporated in the specific country.

• Have documented HIV/AIDS prevention activities in each country.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

CDC strongly encourages you to submit your application electronically by utilizing the forms and instructions posted for this announcement at http://www.grants.gov.

Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 35. If your narrative exceeds the page limit, only the first pages which are within the page limit will be reviewed.

• Font size: 12 point unreduced

• Single spaced

• Paper size: 8.5 by 11 inches

• Page margin size: One inch

• Printed only on one side of page

• Held together only by rubber bands or metal clips; not bound in any other way.

• Must be submitted in English.

Your narrative should address activities to be conducted over the entire project period, and must include the following items in the order listed:

• Project Context and Background (Understanding and Need)

• Project Strategy—Description and Methodologies

• Project Goals

• Project Outputs

• Project Contribution to PEPFAR Goals and Objectives

• Workplan and Description of Project Components and Activities

• Performance Measures

• Gantt Chart with Timeline

• Management of Project Funds and Reporting

Additional information may be included in the application appendices. The appendices will not be counted toward the narrative page limit. This additional information includes:

• Project Budget

• Project Budget Notes

• Job Descriptions

• Testing Protocols

• Overview of HIV CT Quality Assurance Procedures, Both Internal and External

• HIV CT Quality Assurance, Monitoring and Evaluation and Strategic Information Forms

• HIV CT Referral Procedures and Forms

• Mobile HIV CT Processes and Procedures

• HIV CT Staff Training Curricula

• Applicant's Corporate Capability Statement

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: June 2, 2005. Explanation of Deadlines: Applications must be received in the CDC Procurement and Grants Office by 4 p.m. eastern time on the deadline date.

You may submit your application electronically at http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

If you submit your application electronically with Grants.gov, your application will be electronically time/date stamped, which will serve as receipt of submission. You will receive an e-mail notice of receipt when CDC receives the application.

If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

If you submit a hard copy application, CDC will not notify you upon receipt of your submission. If you have a question about the receipt of your LOI or application, first contact your courier. If you still have a question, contact the PGO-TIM staff at: 770-488-2700. Before calling, please wait two to three days after the submission deadline. This will allow time for submissions to be processed and logged.

This announcement is the definitive guide on LOI and application content, submission address, and deadline. It supersedes information provided in the application instructions. If your submission does not meet the deadline above, it will not be eligible for review, and will be discarded. You will be notified that you did not meet the submission requirements.

IV.4. Intergovernmental Review of Applications

Executive Order 12372 does not apply to this program.

IV.5. Funding Restrictions

Restrictions, which must be taken into account while writing your budget, are as follows:

• Funds may not be used for research.

• Reimbursement of pre-award costs is not allowed.

• Funds may be spent for reasonable program purposes, including personnel, travel, supplies, and services. Equipment may be purchased if deemed necessary to accomplish program objectives; however, prior approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the U.S. or to international organizations regardless of their location.

• The applicant may contract with other organizations under this program; however the applicant must perform a substantial portion of the activities (including program management and operations, and delivery of prevention services for which funds are required).

• You must obtain an annual audit of these CDC funds (program-specific audit) by a U.S.-based audit firm with international branches and current licensure/authority in-country, and in accordance with International Accounting Standards or equivalent standards(s) approved in writing by CDC.

• A fiscal Recipient Capability Assessment may be required, prior to or post award, in order to review the applicant's business management and fiscal capabilities regarding the handling of U.S. Federal funds.

• Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization, the International AIDS Vaccine Initiative or to any United Nations agency), but does apply to any non-governmental, non-exempt organization entity receiving U.S. government funds from an exempt organization in connection with this document.

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all sub-agreements under this award. These provisions must be express terms and conditions of the sub-agreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients receiving U.S. Government funds (“prime recipients”) in connection with this document must certify compliance (pending OMB clearance) prior to actual receipt of such funds in a written statement referencing this document (e.g., “[Prime recipient's name] certifies compliance with the section, “Prostitution and Related Activities.””) addressed to the agency's grants officer. Such certifications by prime recipients are prerequisites to the payment of any U.S. Government funds in connection with this document.

Recipients' compliance with this section, “Prostitution and Related Activities,” is an express term and condition of receiving U.S. government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

If you are a U.S.-based organization and are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

Application Submission Address

CDC strongly encourages applicants to submit electronically at: http://www.grants.gov. You will be able to download a copy of the application package from http://www.grants.gov, complete it offline, and then upload and submit the application via the Grants.gov site. E-mail submissions will not be accepted. If you are having technical difficulties in Grants.gov, they can be reached by E-mail at http://www.support@grants.gov or by phone at 1-800-518-4726 (1-800-518-GRANTS). The Customer Support Center is open from 7 a.m. to 9 p.m. eastern time, Monday through Friday.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION. ” The paper submission must conform to all requirements for non-electronic submissions. If both electronic and back-up paper submissions are received by the deadline, the electronic version will be considered the official submission.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

OR

Submit the original and two hard copies of your application by mail or express delivery service to: Technical Information Management—AA006, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Ability to carry out the proposal (30 points): Does the applicant demonstrate the experience and capability to achieve the goals of the project?

2. Understanding the issues, principles and systems requirements involved in carrying out the project (30 points): Does the applicant demonstrate an understanding of the issues, principles and systems requirements to carry out the project?

3. Work Plan (20 points): Does the applicant describe activities that are realistic, achievable and appropriate to achieve the goals of the program?

4. Administrative and Accounting Plan (20 points): Is there a plan to prepare reports, monitor and evaluate activities, audit expenditures and manage the resources of the program?

5. Budget (not scored): Is the budget for conducting the program itemized, well-justified and consistent with planned program activities?

V.2. Review and Selection Process

Applications will be reviewed for completeness by the Procurement and Grants Office (PGO) staff, and for responsiveness by the National Center for HIV, STD, and TB Prevention (NCHSTP). Incomplete applications and applications that are non-responsive to the eligibility criteria will not advance through the review process. Applicants will be notified that their application did not meet submission requirements.

An objective review panel will evaluate complete and responsive applications according to the criteria listed in the “V.1. Criteria” section above. Applications will be funded in order by score and rank determined by the review panel. All persons serving on the panel will be external to NCHSTP. CDC will provide justification for any decision to fund out of rank order.

V.3. Anticipated Announcement and Award Dates

July 1, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-6 Patient Care

• AR-10 Smoke-Free Workplace Requirements

• AR-12 Lobbying Restrictions

• AR-15 Proof of Non-Profit Status

• AR-25 Release and Sharing of Data

Additional information on these requirements can be found on the CDC Web site at the following Internet address: http://www.cdc.gov/od/pgo/funding/ARs.htm.

An additional Certifications form from the PHS 5161-1 application needs to be included in your Grants.gov electronic submission only. Refer to http://www.cdc.gov/od/pgo/funding/PHS5161-1Certificates.pdf. Once the form is filled out, attach it to your Grants.gov submission as Other Attachment Forms.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Annual progress report, due 30 days after the end of the budget period.

3. Financial status report, due no more than 90 days after the end of the budget period.

4. Final financial and performance reports, due no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341, Telephone: 770-488-2700.

For program technical assistance, contact: Mary Wettrich, Project Officer, HHS/CDC Global AIDS Program, 9300 Pretoria Place, Washington, DC 20521-9300, Telephone: 27 12 346 0170, E-mail: wettrichm@sacdc.co.za.

For financial, grants management, or budget assistance, contact: Shirley Wynn, Contract Specialist, CDC Procurement and Grants Office, 2920 Brandywine Road, Atlanta, GA 30341, Telephone: 770-488-1515, E-mail: zbx6@cdc.gov.

VIII. Other Information

This and other CDC funding opportunity announcements can be found on the CDC Web site, Internet address: http://www.cdc.gov. Click on “Funding” then “Grants and Cooperative Agreements.”

Dated: April 26, 2005.
William P. Nichols,
Director, Procurement and Grants Office, Centers for Disease Control and Prevention.

[FR Doc. 05-8751 Filed 5-2-05; 8:45 am]

BILLING CODE 4163-18-P